NUCLEAR REGULATORY COMMISSION

[Docket No. 50-397; NRC-2024-0160]

Energy Northwest; Columbia Generating Station; Environmental Assessment and Finding of No Significant Impact

AGENCY: Nuclear Regulatory Commission.

ACTION: Notice; issuance.

SUMMARY: The U.S. Nuclear Regulatory Commission (NRC) is considering issuance of an amendment to Renewed Facility Operating License No. NPF-21, issued on May 22, 2012, held by Energy Northwest for the operation of Columbia Generating Station (Columbia) located in Benton County, Washington, on land leased from the U.S. Department of Energy (DOE). The proposed amendment would revise the Columbia Emergency Plan by changing the emergency response organization (ERO) staffing plan. The NRC staff evaluated the potential environmental effects of the proposed action (license amendment request) and is issuing an environmental assessment (EA) and finding of no significant impact (FONSI).

DATES: The EA and FONSI referenced in this document are available on November 12, 2024.

ADDRESSES: Please refer to Docket ID NRC-2024-0160 when contacting the NRC about the availability of information regarding this document. You may obtain publicly available information related to this document using any of the following methods:

• Federal Rulemaking Website: Go to https://www.regulations.gov and search for Docket ID NRC-2024-0160. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, information for obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Mahesh L. Chawla, Office of Nuclear Reactor Regulation, U.S. Nuclear Regulatory Commission, Washington, DC 20555-0001; telephone: 301-415-8371; email: Mahesh.Chawla@nrc.gov.

SUPPLEMENTARY INFORMATION:

I. Introduction

By letter dated January 30, 2024, as supplemented by letters dated March 20, September 10, and September 24, 2024, Energy Northwest submitted a request to amend Renewed Facility Operating License No. NPF-21, issued to Energy Northwest, for the operation of Columbia Generating Station (Columbia), which is located in Benton County, Washington, on land leased from the DOE. If approved, the proposed amendment would revise the emergency plan to be consistent with the guidance of the Federal Emergency Management Agency (FEMA) Radiological Emergency Preparedness (REP) document in NUREG-0654/FEMA-REP-1, “Criteria for Preparation and Evaluation of Radiological Emergency Response Plans and Preparedness in Support of Nuclear Power Plants,” Revision 2, December 2019. The proposed changes would revise the Columbia Emergency Plan by changing the ERO staffing plan to align staff functions and major task delineations, specifically, the on-shift and augmenting positions assigned within certain functional areas and remove references to non-minimum augmented ERO positions from the Columbia Emergency Plan while retaining appropriate positions in the applicable implementing procedures.

Each licensee for a nuclear power plant is required to establish an emergency plan to be implemented in the event of an accident in accordance with part 50, “Domestic Licensing of Production and Utilization Facilities,” section 50.47, “Emergency plans,” and appendix E, “Emergency Planning and Preparedness for Production and Utilization Facilities,” of title 10 of the Code of Federal Regulations (10 CFR). The emergency plan covers preparation for evacuation, sheltering, and other actions to protect people living near the nuclear power plant in the event of an accident. An effective emergency preparedness program decreases the likelihood of an initiating event at a nuclear facility proceeding to a severe accident. Emergency preparedness cannot affect the probability of the initiating event, but a high level of emergency preparedness increases the probability of accident mitigation if the initiating event proceeds beyond the need for initial operator actions.

The regulations in 10 CFR 50.54(q)(2) require licensees for nuclear power plants to follow and maintain the effectiveness of an emergency plan that meets the standards in 10 CFR 50.47(b) and the requirements in 10 CFR part 50, appendix E. Sections 50.54(q)(3) and (4) of 10 CFR specify the process by which a licensee may make changes to its emergency plan. In accordance with 10 CFR 50.54(q)(4), Energy Northwest submitted the January 30, 2024, license amendment request, pursuant to 10 CFR 50.90, to obtain NRC approval of the proposed changes to the Columbia Emergency Plan prior to implementation.

In accordance with 10 CFR 51.21, “Criteria for and identification of licensing and regulatory actions requiring environmental assessments,” the NRC prepared the following environmental assessment (EA) that analyzes the environmental impacts of the proposed licensing action. Based on the results of this EA, and in accordance with 10 CFR 51.31(a), the NRC has determined not to prepare an environmental impact statement for the proposed licensing action and is issuing a finding of no significant impact (FONSI).

In addition to this EA, the NRC is conducting a safety evaluation of Energy Northwest's proposed changes to the Columbia Emergency Plan, which will be documented separately. The safety evaluation of the proposed changes to the emergency plan will determine whether Columbia would continue to meet the requirements in 10 CFR 50.47(b) and the requirements in 10 CFR part 50, appendix E with the requested amendment.

II. Environmental Assessment

Description of the Proposed Action

The proposed action would revise the ERO staffing plan identified in the Columbia Emergency Plan, including the on-shift and augmenting ERO staffing requirements. The proposed revisions would remove reference to non-minimum augmenting ERO positions from the Columbia Emergency Plan while retaining appropriate positions in implementing procedures. The proposed action would also align the ERO staffing plan with the functions and major task delineations related to on-shift and augmenting ERO positions assigned within certain functional areas.

The NRC staff notes that Energy Northwest's request referred to on-shift and minimum augmenting ERO positions. Although NUREG-0654/FEMA-REP-1 does not refer to minimum augmenting ERO positions, the NRC staff understands phrases like minimum augmenting ERO positions to refer to those positions described in NUREG-0654/FEMA-REP-1. Similarly, the NRC staff understands phrases like non-minimum augmented ERO positions to refer to positions described by the Columbia Emergency Plan beyond those described in NUREG-0654/FEMA-REP-1. For clarity, this environmental assessment will refer to augmenting ERO positions instead of minimum augmenting ERO positions when discussing the positions described in NUREG-0654/FEMA-REP-1 but will refer to non-minimum augmenting ERO positions when discussing positions beyond those described in NUREG-0654/FEMA-REP-1.

The proposed action is in accordance with Energy Northwest's request for a license amendment, to revise the Columbia Emergency Plan dated January 30, 2024, notice of which the NRC published in the Federal Register (89 FR 49238).

Need for the Proposed Action

If granted, the proposed action would align the Columbia Emergency Plan with the NRC's guidance for EROs in NUREG-0654/FEMA-REP-1, Revision 2. The application states that Energy Northwest shared the proposed Columbia Emergency Plan changes with offsite response organizations for the State of Washington, Benton County, and Franklin County, and these organizations had no concerns.

Environmental Impacts of the Proposed Action

The proposed action consists of changes related to staffing positions, position descriptions, titles, duties, duty locations, and response times specified in the Columbia Emergency Plan. The on-shift and augmenting ERO staffing requirements listed in the emergency plan would be revised. The proposed revisions include eliminating ERO positions; adding ERO positions; changing position descriptions, titles, duties, and duty locations; changing response times, and relocating certain position descriptions to other parts of the emergency plan or to implementing procedures.

The proposed changes would have no direct impacts on land use or water resources, including terrestrial and aquatic biota, as the proposed action involves no new construction, ground disturbing activities, or modification of nuclear power plant operational systems. For the same reasons, there would also be no changes to the quality or quantity of non-radiological effluents and no changes to the nuclear plant's National Pollutant Discharge Elimination System permits. Overall staffing levels are not expected to increase; therefore, worker vehicle air emissions are not expected to increase. In addition, for the reasons stated previously in this notice, there would be no noticeable effect on socioeconomic conditions in the region, no environment justice impacts, and no impacts to historic properties and cultural resources from the proposed licensing action. Therefore, there would be no significant non-radiological environmental impacts associated with the proposed agency action.

In addition, the proposed licensing action would not have a significant effect on the probability or consequences of radiological accidents because the emergency plan must continue to meet the standards of 10 CFR 50.47(b) and the requirements in 10 CFR part 50, appendix E. For the same reasons there would be no change to the types or amounts of non-radioactive effluents, there would also be no change to the types or amounts of radioactive effluents released into the environment and, therefore, no change in occupational or public radiation exposure from the proposed changes. Therefore, there would be no significant radiological impacts associated with the proposed agency action.

The NRC staff therefore concludes that the proposed licensing action would not significantly affect plant safety and would not have a significant adverse effect on the probability of or consequences from an accident. Accordingly, the NRC staff concludes that the proposed agency action would have no significant environmental effect on the quality of the human environment.

Environmental Impacts of the Alternatives to the Proposed Action

As an alternative to the proposed action, the NRC staff considered denial of the license amendment request (i.e., the “no-action” alternative). Denial of the license amendment request would result in no change in current environmental impacts at Columbia. As determined above, the proposed action would have no significant environmental effect on the quality of the human environment. Accordingly, the environmental impacts of the proposed action and the no action alternative would be similar.

Alternative Use of Resources

There are no unresolved conflicts concerning alternative uses of available environmental resources under the proposed action.

Agencies and Persons Consulted

No additional agencies or persons were consulted regarding the environmental impact of the proposed action. Because the proposed action is not a type of activity that has the potential to cause effects on historic properties, the NRC has no further obligations under section 106 of the National Historic Preservation Act. Similarly, the proposed action would not affect threatened or endangered species. Therefore, consultation under section 7 of the Endangered Species Act is not required. However, in accordance with 10 CFR 50.91(b), the licensee provided copies of its application to the State of Washington, and the NRC staff will consult with the State prior to issuance of the amendment.

III. Finding of No Significant Impact

Energy Northwest has requested a license amendment pursuant to 10 CFR 50.90, consistent with the requirements of 10 CFR 50.54(q), “Emergency plans,” to revise the Columbia Emergency Plan by removing references to non-minimum augmenting ERO positions from the Emergency Plan while retaining appropriate positions in implementing procedures. The amendment would also revise the Columbia Emergency Plan by changing ERO staffing requirements to align staff functions and major task delineations, specifically, the on-shift and augmenting positions assigned within certain functional areas.

The environmental effects of the proposed license request are described in the EA, presented in Section II of this notice, and incorporated by reference in this FONSI. In the EA, the NRC staff determined the proposed licensing action would not have a significant adverse effect on the probability of or consequences from an accident, and would not have any significant radiological or non-radiological environmental effects. Based on information presented in the EA, the NRC concludes that the proposed agency action would not have a significant impact on the quality of the human environment. Accordingly, there is no need to prepare an environmental impact statement for this proposed action.

As required by 10 CFR 51.32(a)(5), the most recent document describing the environmental effects of ongoing reactor operations and a description of environmental conditions at Columbia is the “Generic Environmental Impact Statement for License Renewal of Nuclear Plants: Regarding Columbia Generating Station, Final Report,” NUREG-1437, Supplement 47, April 2012.

This FONSI and other related documents may be examined, and/or copied for a fee, at the NRC's PDR, located at One White Flint North, 11555 Rockville Pike, Rockville, Maryland 20852. Publicly available records are accessible electronically from ADAMS Public Electronic Reading Room on the internet at the NRC's website: http://www.nrc.gov/reading-rm/adams.html. Persons who do not have access to ADAMS or who encounter problems in accessing the documents located in ADAMS should contact the NRC's PDR Reference staff by telephone at 1-800-397-4209 or 301 415 4737, or by email to PDR.Resource@nrc.gov.

IV. Availability of Documents

The documents identified in the following table are available to interested persons through ADAMS.

Document description | ADAMS accession No.
Energy Northwest, Columbia Generating Station, Docket No. 50-397, License Amendment Request to Revise Columbia Generating Station Emergency Plan, dated January 30, 2024 | ML24030A844.
Energy Northwest, Columbia Generating Station, Docket No. 50-397, Supplement to License Amendment Request to Revise Columbia Generating Station Emergency Plan, dated March 20, 2024 | ML24081A193.
Energy Northwest, Columbia Generating Station, Docket No. 50-397, Response to Request for Additional Information Regarding License Amendment Request to Revise Columbia Emergency Plan, dated September 10, 2024 | ML24254A366.
Energy Northwest, Columbia Generating Station, Docket No. 50-397, Supplement to Response to Request for Additional Information Regarding License Amendment Request to Revise Columbia Emergency Plan, dated September 24, 2024 | ML24269A254.
U.S. Nuclear Regulatory Commission and Federal Emergency Management Agency, “Criteria for Preparation and Evaluation of Radiological Emergency Response Plans and Preparedness,” NUREG-0654/FEMA-REP-1, Revision 2, dated December 2019 | ML19347D139.
U.S. Nuclear Regulatory Commission, letter to Nuclear Energy Institute, “Alternative Guidance for Licensee Emergency Response Organizations,” dated June 12, 2018 | ML18022A352.
U.S. Nuclear Regulatory Commission, “Generic Environmental Impact Statement for License Renewal of Nuclear Plants: Regarding Columbia Generating Station,” NUREG-1437, Supplement 47, Volume 1, dated April 2012 | ML12096A334.
U.S. Nuclear Regulatory Commission, “Generic Environmental Impact Statement for License Renewal of Nuclear Plants: Regarding Columbia Generating Station,” NUREG-1437, Supplement 47, Volume 2, dated April 2012 | ML12096A336 (Package).

Dated: November 5, 2024.
For the Nuclear Regulatory Commission.
Mahesh Chawla,
Project Manager, Plant Licensing Branch IV, Division of Operating Reactor Licensing, Office of Nuclear Reactor Regulation.

[FR Doc. 2024-26109 Filed 11-8-24; 8:45 am]

BILLING CODE 7590-01-P